DEPARTMENT OF TRANSPORTATION

Federal Aviation Administration

14 CFR Parts 91, 125, and 135

[Docket No. FAA-2007-29281; Notice No. 08-06]

RIN 2120-AJ09

Removal of Regulations Allowing for Polished Frost on Wings of Airplanes

AGENCY: Federal Aviation Administration (FAA), DOT.

ACTION: Notice of proposed rulemaking (NPRM).

SUMMARY: The FAA is proposing to remove provisions in its regulations that allow for operations with “polished frost” (i.e., frost polished to make it smooth) on the wings of airplanes operated under parts 125, 135, and certain airplanes operated under part 91. The rule would increase safety by not allowing operations with polished frost, which the FAA has determined increases the risk of unsafe flight.

DATES: Send your comments on or before August 6, 2008.

ADDRESSES: You may send comments identified by docket number FAA-2007-29281 using any of the following methods:

• Federal eRulemaking Portal: Go to http://www.regulations.gov and follow the online instructions for sending your comments electronically.

• Mail: Send comments to Docket Operations, M-30; U.S. Department of Transportation, 1200 New Jersey Avenue, SE., Room W12-140, West Building Ground Floor, Washington, DC 20590-0001.

• Hand Delivery or Courier: Bring comments to Docket Operations in Room W12-140 of the West Building Ground Floor at 1200 New Jersey Avenue, SE., Washington, DC, between 9 a.m. and 5 p.m., Monday through Friday, except Federal holidays.

• Fax: Fax comments to Docket Operations at 202-493-2251.

For more information on the rulemaking process, see the SUPPLEMENTARY INFORMATION section of this document.

Privacy: We will post all comments we receive, without change, to http://www.regulations.gov, including any personal information you provide. Using the search function of our docket Web site, anyone can find and read the electronic form of all comments received into any of our dockets, including the name of the individual sending the comment (or signing the comment for an association, business, labor union, etc.). You may review DOT's complete Privacy Act Statement in the Federal Register published on April 11, 2000 (65 FR 19477-78), or you may visit http://DocketsInfo.dot.gov.

Docket: To read background documents or comments received, go to http://www.regulations.gov at any time and follow the online instructions for accessing the docket. Or, go to Docket Operations in Room W12-140 of the West Building Ground Floor at 1200 New Jersey Avenue, SE., Washington, DC, between 9 a.m. and 5 p.m., Monday through Friday, except Federal holidays.

FOR FURTHER INFORMATION CONTACT: For technical questions concerning this proposed rule contact Mike Frank, AFS-260, Federal Aviation Administration, 800 Independence Avenue, SW., Washington, DC 20591; telephone (202) 267-8166 ; facsimile (202) 267-5299, e-mail mike.frank@faa.gov.

For legal questions concerning this proposed rule contact Bruce Glendening, Operations Law Branch—AGC-220, Federal Aviation Administration, 800 Independence Avenue, SW., Washington, DC 20591; telephone (202) 267-3073; facsimile (202) 267-7971, e-mail bruce.glendening@faa.gov.

SUPPLEMENTARY INFORMATION: Later in this preamble under the Additional Information section, we discuss how you can comment on this proposal and how we will handle your comments. Included in this discussion is related information about the docket, privacy, and handling of proprietary or confidential business information. We also discuss how you can get a copy of this proposal and related rulemaking documents.

Authority for This Rulemaking

The FAA's authority to issue rules on aviation safety is found in Title 49 of the United States Code. Subtitle I, Section 106 describes the authority of the FAA Administrator, including the authority to issue, rescind, and revise regulations. Subtitle VII, Aviation Programs, describes in more detail the scope of the agency's authority. This rulemaking is promulgated under the authority described in Subtitle VII, Part A, Chapter 447—Safety Regulation. Under section 44701 (a)(5), the FAA is charged with promoting safe flight of civil aircraft by, among other things, prescribing regulations the FAA finds necessary for safety in air commerce.

I. Background

Currently, 14 CFR 91.527 (a), 125.221 (a), and 135.227 (a) allow pilots to take off with frost adhering to wings or stabilizing or control surfaces if that frost has been polished to make it smooth. This frost is referred to as “polished frost.” This procedure first appeared in the Federal Register as Civil Air Regulation Draft Release No. 60-13, a proposed revision of part 47 of the Civil Air Regulations, on August 6, 1960.

Since 1960, the FAA and others have accumulated an extensive amount of data that would indicate that any amount of contaminants on wings or critical surfaces could be detrimental to the flight characteristics of an aircraft. In Advisory Circular (AC) 135-17, the FAA recommends that all wing frost be removed prior to takeoff, and states that if an operator desires to polish the frost, the aircraft manufacturer's recommended procedures should be followed (http://rgl.faa.gov/Regulatory_and_Guidance_Library/rgAdvisoryCircular.nsf/MainFrame?OpenFrameSet). No current aircraft manufacturer, however, has issued any recommended procedures for (1) polishing frost, or (2) conducting operations with polished frost. In addition, the FAA has no data to support practical guidance on determining how to polish frost on a surface to make it acceptably smooth, other than completely removing the frost and returning the airplane's critical lifting surfaces to uncontaminated smoothness. Moreover, the term “polished frost” is ambiguous since no standard of acceptable smoothness is provided. Also, means to ensure that the “polished frost” surface smoothness is equivalent to that of the uncontaminated airplane surface is operationally impractical. Subsequently, the FAA issued two Safety Alerts for Operators (SAFOs)—06002 and 06014— advising against the practice of polishing frost (http://www.faa.gov/other_visit/aviation_industry/airline_operators/airline_safety/safo/).

In addition, there are at least 11 known accidents in which individuals attempted to “smooth” or polish frost, but the aircraft failed to generate enough lift and crashed shortly after takeoff.¹ There have been a number of other takeoff accidents and fatalities that have occurred when flightcrews have consciously decided to take off without removing frost from the wings of their aircraft. Following the January 4, 2002 accident at Birmingham, England, the United Kingdom Aircraft Accident Investigation Board recommended in its Safety Recommendation 2003-54 that the FAA, and all Authorities who follow FAA practice, delete all reference to ‘Polished Frost' within their regulations and ensure that the term is expunged from Operations Manuals. In addition, the U.S. National Transportation Safety Board (NTSB) has issued numerous safety alerts urging operators to ensure that critical surfaces are free of all contamination prior to take off.

¹ Nine of the 11 accidents would not have been prevented by this proposed rule, since the aircraft were involved in non-part 91 subpart F operations. Nevertheless, the FAA believes they illustrate the risk involved in flying with polished frost.

II. General Discussion of the Proposals

As previously mentioned, numerous FAA ACs and Safety Alerts have been issued since 1960 clearly pointing out the hazards of attempting to take off with any frost on aircraft wings or control surfaces, polished or not. Adverse aerodynamic effects for lifting surfaces begin as soon as frost begins to adhere to the surfaces. Determining either when sufficient polishing achieves a smooth surface or the smoothness of the contaminated surface without instrumentation is impracticable. The sheen of polished frost and its tactile smoothness can be misleading. In addition, the FAA believes achieving uniform smoothness on all lifting and control surfaces or even symmetrical smoothness in an operational environment is impossible to determine.

Technical literature well documents the adverse aerodynamic effects of surface roughness, such as frost and other ice that adhere to aircraft surfaces. The literature indicates that surface roughness formed by frost and adhering ice can result in significant adverse aerodynamic effects for lifting surfaces, such as wings and flight control surfaces. For example, (1) a contaminated wing's maximum lift may be reduced by 30 percent or more; (2) the angle of attack for maximum lift may be reduced by several degrees; (3) drag may be increased significantly; and (4) the airplane's handling qualities and performance may change unexpectedly from that of the uncontaminated aircraft. The severity of these adverse aerodynamic effects varies significantly (1) with the magnitude (height and density) and location of the surface roughness, and (2) with the location of the roughness relative to the surface leading edge where significant variations may occur in the local airspeed and surface air loads. Therefore, the FAA has determined that complete removal of frost from critical surfaces to achieve uncontaminated surface smoothness is necessary to ensure acceptable airplane airworthiness. If all wing surfaces, other than those under the wing in the area of the fuel tank ², and control surfaces are not uniformly smooth upon take off, the FAA believes an unsafe condition exists.

² Takeoffs may be made with frost under the wing area of the fuel tanks if authorized by the FAA. (See e.g., 14 CFR 125.221 (a)(2) and 135.227 (a)(2).)

The FAA is proposing to amend §§ 91.527 (a)(3), 125.221 (a), and 135.227 (a) to remove language permitting pilots to take off with “polished frost” adhering to the wings or stabilizing or control surfaces.

Within part 91 subpart F, the current text of § 91.527 (a) states that no pilot may take off an airplane that has— (1) frost, snow, or ice adhering to any propeller, windshield, or powerplant installation or to an airspeed, altimeter, rate of climb, or flight attitude instrument system; (2) snow or ice adhering to the wings or stabilizing or control surfaces; or (3) any frost adhering to the wings or stabilizing or control surfaces, unless that frost has been polished to make it smooth. The FAA would amend the paragraph to remove the words “unless that frost has been polished to make it smooth.”

Part 91 subpart F provides for the operation of large and turbine-powered multiengine airplanes and all fractional ownership program aircraft (regardless of category, class, weight, powerplant or number of engines). Therefore, the revised provisions in subpart F in this NPRM would affect the operation of all fractional ownership program aircraft under subpart K, regardless of whether the aircraft is large or small and regardless of whether the aircraft is single or multi-engine.

Similarly, current §§ 125.221 (a) and 135.227 (a) provide that no pilot may take off an airplane that has frost, ice, or snow adhering to any propeller, windshield, wing, stabilizing or control surface, to a powerplant installation, or to an airspeed, altimeter, rate of climb, or flight attitude instrument system, except that takeoffs may be made with frost adhering to the wings, or stabilizing or control surfaces, if the frost has been polished to make it smooth. The FAA would amend those sections to delete the words “except * * * [t]akeoffs may be made with frost adhering to the wings, or stabilizing or control surfaces, if the frost has been polished to make it smooth.” These rule changes may also result in changes to an operator's operations specifications (OpSpecs) as they relate to ground deicing operations.

In addition, the FAA is responding to a recommendation from the Part 125/135 Aviation Rulemaking Committee, established on April 8, 2003, which provided recommendations to the FAA regarding the safety and applicability of standards of parts 125, 135, and associated regulations. In this proposed rule, the FAA is therefore taking the opportunity to correct the structure of §§ 91.527(b), 125.221(c), and 135.227(c). Currently, in each of those paragraphs the phrase beginning with the words “unless the aircraft has * * *” appears to apply only to paragraph (2); however, that clause applies to all of the provisions of the paragraph. In 1995, the FAA issued a legal interpretation (included in the docket for this rulemaking action) to clarify that this language applies to both IFR flight into known or forecast light or moderate icing conditions and VFR flight into known light or moderate icing conditions. The FAA is therefore proposing to re-structure those paragraphs accordingly.

III. Paperwork Reduction Act

The Paperwork Reduction Act of 1995 (44 U.S.C. 3507(d)) requires that the FAA consider the impact of paperwork and other information collection burdens imposed on the public. We have determined that there is no new information collection requirement associated with this proposed rule.

IV. International Compatibility

In keeping with U.S. obligations under the Convention on International Civil Aviation, it is FAA policy to comply with International Civil Aviation Organization (ICAO) Standards and Recommended Practices to the maximum extent practicable. The FAA has determined that there are no ICAO Standards and Recommended Practices that correspond to these proposed regulations.

V. Regulatory Evaluation, Regulatory Flexibility Determination, International Trade Impact Assessment, and Unfunded Mandates Assessment

V.1. Regulatory Evaluation

Changes to Federal regulations must undergo several economic analyses. First, Executive Order 12866 directs that each Federal agency shall propose or adopt a regulation only upon a reasoned determination that the benefits of the intended regulation justify its costs. Second, the Regulatory Flexibility Act of 1980 (Pub. L. 96-354) requires agencies to analyze the economic impact of regulatory changes on small entities. Third, the Trade Agreements Act (Pub. L. 96-39) prohibits agencies from setting standards that create unnecessary obstacles to the foreign commerce of the United States. In developing U.S. standards, this Trade Act requires agencies to consider international standards and, where appropriate, that they be the basis of U.S. standards. Fourth, the Unfunded Mandates Reform Act of 1995 (Pub. L. 104-4) requires agencies to prepare a written assessment of the costs, benefits, and other effects of proposed or final rules that include a Federal mandate likely to result in the expenditure by State, local, or tribal governments, in the aggregate, or by the private sector, of $100 million or more annually (adjusted for inflation with base year of 1995). This portion of the preamble summarizes the FAA's analysis of the economic impacts of this proposed rule. We suggest readers seeking greater detail read the full regulatory evaluation, a copy of which we have placed in the docket for this rulemaking.

In conducting these analyses, FAA has determined that this proposed rule: (1) Has benefits that justify its costs, (2) is not an economically “significant regulatory action” as defined in section 3(f) of Executive Order 12866, (3) is not “significant” as defined in DOT's Regulatory Policies and Procedures; (4) would not have a significant economic impact on a substantial number of small entities; (5) would not create unnecessary obstacles to the foreign commerce of the United States; and (6) would not impose an unfunded mandate on state, local, or tribal governments, or on the private sector by exceeding the threshold identified above. These analyses are summarized below.

Operators and pilots would have at least four alternatives to choose from to deal with frost that may have accumulated on the wings of their aircraft. These include: using wing covers, waiting for the frost to melt, storing the aircraft in a heated hangar, or deicing the wing surface. The FAA believes that wing covers are the lowest-cost alternative. Assuming operators impacted by this proposed rule choose to use wing covers, they would incur total costs of roughly $164,000 ($130,000 discounted) over the ten year period from 2009 to 2018. Of these, $155,000 ($123,000 discounted) would accrue to operators in Alaska, and $9,500 ($7,500 discounted) would accrue to mainland U.S. operators. Benefits total roughly $460,000 ($320,000 discounted). About $433,000 ($301,000 discounted) in benefits would accrue in Alaska, while the remaining $27,000 ($19,000 discounted) would accrue in the mainland U.S. These benefits are attributed to averted accidents, injuries, and aircraft damage. Since benefits exceed costs for both Alaska and the mainland U.S., the FAA concludes the proposed rule is cost beneficial. The FAA calls for comments on this determination and requests that all comments be accompanied by clear and detailed supporting economic documentation.

V.2. Regulatory Flexibility Determination

The Regulatory Flexibility Act of 1980 (Pub. L. 96-354) (RFA) establishes “as a principle of regulatory issuance that agencies shall endeavor, consistent with the objectives of the rule and of applicable statutes, to fit regulatory and informational requirements to the scale of the businesses, organizations, and governmental jurisdictions subject to regulation. To achieve this principle, agencies are required to solicit and consider flexible regulatory proposals and to explain the rationale for their actions to assure that such proposals are given serious consideration.” The RFA covers a wide-range of small entities, including small businesses, not-for-profit organizations, and small governmental jurisdictions.

Agencies must perform a review to determine whether a rule will have a significant economic impact on a substantial number of small entities. If the agency determines that it will, the agency must prepare a regulatory flexibility analysis as described in the RFA.

However, if an agency determines that a rule is not expected to have a significant economic impact on a substantial number of small entities, section 605(b) of the RFA provides that the head of the agency may so certify and a regulatory flexibility analysis is not required. The certification must include a statement providing the factual basis for this determination, and the reasoning should be clear.

This proposed rule would improve aviation safety by removing references to the “polished frost” technique found in 14 CFR 91.527(a), 125.221(a), and 135.227(a). At this time there is no part 91 operator that has an authorized deicing program that incorporates the polished frost procedure; therefore, this rulemaking only affects on-demand and commuter services operating under parts 125 and 135. There are 57 operators operating 188 aircraft that would be affected by the rule. Based on the SBA size standard defining a small unscheduled air carrier as one having 1,500 employees or less per company, all of these operators are considered small entities. As a result, the Regulatory Flexibility Act applies.

The FAA assumes that most operators would choose to buy and use wing covers to comply with the proposed rule. The other alternatives (waiting for the frost to melt, storing the aircraft in a heated hangar, or deicing the aircraft) are more expensive than using wing covers. The FAA estimates that operators would choose to buy wing covers at an initial cost of $400, plus minimal additional fuel costs and, if needed, an additional cost of $400 after five years to replace a worn wing cover.

In Alaska, there are 21 operators with one aircraft apiece, and 30 operators operating the remaining 156 aircraft. In the mainland U.S., there are six operators operating 11 aircraft. The smallest operators operate only one plane, and would incur a cost of approximately $99 per year as a result of this rulemaking, a cost that the FAA does not consider significant. The operator that would be most impacted by the rule operates 16 affected aircraft, and would incur costs of approximately $1,584 per year as a result of this rulemaking. This operator has annual revenues of $5 million. The cost of this rulemaking represents 0.03 percent of the gross revenues of that operator, and the FAA does not consider that amount significant. As a result, the FAA certifies that this proposed rule would not have a significant economic impact on a substantial number of small entities. The FAA requests comments from affected entities on this finding and determination.

V.3. International Trade Impact Assessment

The Trade Agreements Act of 1979 (Pub. L. 96-39) prohibits Federal agencies from establishing any standards or engaging in related activities that create unnecessary obstacles to the foreign commerce of the United States. Legitimate domestic objectives, such as safety, are not considered unnecessary obstacles. The statute also requires consideration of international standards and, where appropriate, that they be the basis for U.S. standards. The FAA has assessed the potential effect of this proposed rule and has determined that it would have only a domestic impact and would not affect international trade.

V.4. Unfunded Mandates Assessment

Title II of the Unfunded Mandates Reform Act of 1995 (Pub. L. 104-4) requires each Federal agency to prepare a written statement assessing the effects of any Federal mandate in a proposed or final agency rule that may result in an expenditure of $100 million or more (adjusted annually for inflation with the base year 1995) in any one year by State, local, and tribal governments, in the aggregate, or by the private sector; such a mandate is deemed to be a “significant regulatory action.” The FAA currently uses an inflation-adjusted value of $136.1 million in lieu of $100 million. This proposed rule does not contain such a mandate.

VI. Executive Order 13132, Federalism

The FAA has analyzed this proposed rule under the principles and criteria of Executive Order 13132, Federalism. We determined that this action would not have a substantial direct effect on the States, on the relationship between the national Government and the States, or on the distribution of power and responsibilities among the various levels of government, and, therefore, would not have federalism implications.

VII. Regulations Affecting Intrastate Aviation in Alaska

Section 40113(f) of 49 U.S.C. requires the Administrator, when modifying regulations in title 14 of the CFR in a manner affecting intrastate aviation in Alaska, to consider the extent to which Alaska is not served by transportation modes other than aviation, and to establish appropriate regulatory distinctions. Because the majority of potentially affected operators are in Alaska, this proposed rule could, if adopted, affect intrastate aviation in Alaska. The FAA believes, however, that over 60% of aircraft currently operating in Alaska do not rely on this procedure. For the remainder of affected operators, the cost of compliance would be minimal. The FAA, therefore, specifically requests comments on whether there is justification for applying the proposed rule differently in intrastate operations in Alaska.

VIII. Environmental Analysis

FAA Order 1050.1E identifies FAA actions that are categorically excluded from preparation of an environmental assessment or environmental impact statement under the National Environmental Policy Act in the absence of extraordinary circumstances. The FAA has determined this proposed rulemaking action qualifies for the categorical exclusion identified in paragraph 312 and involves no extraordinary circumstances.

IX. Regulations That Significantly Affect Energy Supply, Distribution, or Use

The FAA has analyzed this NPRM under Executive Order 13211, Actions Concerning Regulations that Significantly Affect Energy Supply, Distribution, or Use (May 18, 2001). We have determined that it is not a “significant energy action” under the executive order because it is not a “significant regulatory action” under Executive Order 12866, and it is not likely to have a significant adverse effect on the supply, distribution, or use of energy.

X. Additional Information

Comments Invited

The FAA invites interested persons to participate in this rulemaking by submitting written comments, data, or views. We also invite comments relating to the economic, environmental, energy, or federalism impacts that might result from adopting the proposals in this document. The most helpful comments reference a specific portion of the proposal, explain the reason for any recommended change, and include supporting data. To ensure the docket does not contain duplicate comments, please send only one copy of written comments, or if you are filing comments electronically, please submit your comments only one time.

We will file in the docket all comments we receive, as well as a report summarizing each substantive public contact with FAA personnel concerning this proposed rulemaking. Before acting on this proposal, we will consider all comments we receive on or before the closing date for comments. We will consider comments filed after the comment period has closed if it is possible to do so without incurring expense or delay. We may change this proposal in light of the comments we receive.

Availability of Rulemaking Documents

You can get an electronic copy of rulemaking documents using the Internet by—

1. Searching the Federal eRulemaking Portal (http://www.regulations.gov);

2. Visiting the FAA's Regulations and Policies Web page at http://www.faa.gov/regulations_policies/; or

3. Accessing the Government Printing Office's Web page at http://www.gpoaccess.gov/fr/index.html.

You can also get a copy by sending a request to the Federal Aviation Administration, Office of Rulemaking, ARM-1, 800 Independence Avenue, SW., Washington, DC 20591, or by calling (202) 267-9680. Be sure to identify the docket number, notice number, or amendment number of this rulemaking.

You may access all documents the FAA considered in developing this proposed rule, including economic analyses and technical reports, from the Internet through the Federal eRulemaking Portal referenced in paragraph (1).

List of Subjects

14 CFR Part 91

Aircraft, Airmen, Airports, Aviation safety, Freight.

14 CFR Part 125

Aircraft, Airmen, Aviation safety.

14 CFR Part 135

Air taxis, Aircraft, Airmen, Aviation safety.

The Proposed Amendment

In consideration of the foregoing, the Federal Aviation Administration proposes to amend chapter I of title 14, Code of Federal Regulations, as follows:

PART 91—GENERAL OPERATING AND FLIGHT RULES

1. The authority citation for part 91 continues to read as follows:

Authority: 49 U.S.C. 106(g), 1155, 40103, 40113, 40120, 44101, 44111, 44701, 44704, 44709, 44711, 44712, 44715, 44716, 44717, 44722, 46306, 46315, 46316, 46504, 46506-46507, 47122, 47508, 47528-47531, articles 12 and 29 of the Convention on International Civil Aviation (61 Stat. 1180).

2. Amend § 91.527 by revising paragraphs (a) and (b) to read as follows:

§ 91.527 Operating in icing conditions.

(a) No pilot may take off an airplane that has frost, ice, or snow adhering to any propeller, windshield, stabilizing or control surface; to a powerplant installation; or to an airspeed, altimeter, rate of climb, or flight attitude instrument system or wing, except that takeoffs may be made with frost under the wing in the area of the fuel tanks if authorized by the FAA.

(b) No pilot may fly under IFR into known or forecast light or moderate icing conditions, or under VFR into known light or moderate icing conditions, unless—

(1) The aircraft has functioning deicing or anti-icing equipment protecting each rotor blade, propeller, windshield, wing, stabilizing or control surface, and each airspeed, altimeter, rate of climb, or flight attitude instrument system; or

(2) The airplane has ice protection provisions that meet section 34 of Special Federal Aviation Regulation No. 23; or

(3) The airplane meets transport category airplane type certification provisions.

* * * * *

PART 125—CERTIFICATION AND OPERATIONS: AIRPLANES HAVING A SEATING CAPACITY OF 20 OR MORE PASSENGERS OR A MAXIMUM PAYLOAD CAPACITY OF 6,000 POUNDS OR MORE; AND RULES GOVERNING PERSONS ON BOARD SUCH AIRCRAFT

3. The authority citation for part 125 continues to read as follows:

Authority: 49 U.S.C. 106(g), 40113, 44701-44702, 44705, 44710-44711, 44713, 44716-44717, 44722.

4. Amend § 125.221 by revising paragraphs (a) and (c) to read as follows:

§ 125.221 Icing conditions: Operating limitations.

(a) No pilot may take off an airplane that has frost, ice, or snow adhering to any propeller, windshield, stabilizing or control surface; to a powerplant installation; or to an airspeed, altimeter, rate of climb, flight attitude instrument system, or wing, except that takeoffs may be made with frost under the wing in the area of the fuel tanks if authorized by the FAA.

* * * * *

(c) No pilot may fly under IFR into known or forecast light or moderate icing conditions, or under VFR into known light or moderate icing conditions, unless—

(1) The aircraft has functioning deicing or anti-icing equipment protecting each rotor blade, propeller, windshield, wing, stabilizing or control surface, and each airspeed, altimeter, rate of climb, or flight attitude instrument system; or

(2) The airplane has ice protection provisions that meet appendix C of this part; or

(3) The airplane meets transport category airplane type certification provisions.

* * * * *

PART 135—OPERATING REQUIREMENTS: COMMUTER AND ON DEMAND OPERATIONS AND RULES GOVERNING PERSONS ON BOARD SUCH AIRCRAFT

5. The authority citation for part 135 continues to read as follows:

Authority: 49 U.S.C. 106(g), 41706, 40113, 44701-44702, 44705, 44709, 44711-44713, 44715-44717, 44722, 45101-45105.

6. Amend § 135.227 by revising paragraphs (a) and (c) to read as follows:

§ 135.227 Icing conditions: Operating limitations.

(a) No pilot may take off an aircraft that has frost, ice, or snow adhering to any rotor blade, propeller, windshield, stabilizing or control surface; to a powerplant installation; or to an airspeed, altimeter, rate of climb, flight attitude instrument system, or wing, except that takeoffs may be made with frost under the wing in the area of the fuel tanks if authorized by the FAA.

* * * * *

(c) No pilot may fly under IFR into known or forecast light or moderate icing conditions or under VFR into known light or moderate icing conditions, unless—

(1) The aircraft has functioning deicing or anti-icing equipment protecting each rotor blade, propeller, windshield, wing, stabilizing or control surface, and each airspeed, altimeter, rate of climb, or flight attitude instrument system; or

(2) The airplane has ice protection provisions that meet section 34 of appendix A of this part; or

(3) The airplane meets transport category airplane type certification provisions.

* * * * *

Issued in Washington, DC, on May 2, 2008.
John M. Allen,
Acting Director, Flight Standards Service.

[FR Doc. E8-10246 Filed 5-7-08; 8:45 am]

BILLING CODE 4910-13-P